FEDERAL COMMUNICATIONS COMMISSION

47 CFR Parts 1, 20, and 43

[WCB: WC Docket Nos. 07-38, 09-190, 10-132, 11-10; FCC 11-14]

Modernizing the FCC Form 477 Data Program; Correction

AGENCY: Federal Communications Commission.

ACTION: Notice of proposed rulemaking; correction.

SUMMARY: The Federal Communications Commission published in the Federal Register of February 28, 2011, a document concerning modernization of the FCC Form 477. Inadvertently the Comment Filing Procedures section of the February 28, 2011 publication mistakenly references WC Docket No. 10-191. This document removes that incorrect reference and replaces it with the correct docket number in this proceeding, WC Docket No. 11-10.

DATES: Effective on March 7, 2011.

FOR FURTHER INFORMATION CONTACT: Jeremy Miller, 202-418-1507.

SUPPLEMENTARY INFORMATION: The Federal Communications Commission published a document (FR Doc. 2011-4393) in the Federal Register of February 28, 2011 (76 FR 10827) relating to the modernization of the FCC Form 477. The document (FR Doc. 2011-4393), published in the Federal Register of February 28, 2011 (76 FR 10827), mistakenly references WC Docket No. 10-191. This correction removes the reference to WC Docket No. 10-191 published on February 28, 2011, and replaces it with the correct WC Docket No. 11-10.

In FR Doc. 2011-4393, published on February 28, 2011 (76 FR 10827), make the following correction: on page 10842, in the third column, paragraph 118, replace reference to WC Docket No.10-191 with the correct docket number in this proceeding, WC Docket No. 11-10.

Dated: February 28, 2011.
Federal Communications Commission.
Bulah P. Wheeler,
Deputy Manager.

[FR Doc. 2011-5095 Filed 3-4-11; 8:45 am]

BILLING CODE 6712-01-P